DEPARTMENT OF AGRICULTURE

Office of the Secretary

7 CFR Part 2

Commodity Credit Corporation

7 CFR Part 1409

RIN-0503-AA62

Revision of Delegations of Authority and Commodity Credit Corporation Board of Directors Meeting Requirements

AGENCY: Office of the Secretary, USDA.

ACTION: Final rule.

SUMMARY: The Secretary of Agriculture is authorized to delegate functions, powers, and duties as the Secretary deems appropriate. This document amends the existing delegations of authority by adding and modifying certain delegations, as explained in the Supplementary Information section below. In addition, it repeals regulations governing meetings of the Commodity Credit Corporation Board of Directors.

DATES: Effective May 14, 2018.

FOR FURTHER INFORMATION CONTACT: Melissa McClellan, Office of the General Counsel, (202) 720-5565, melissa.mcclellan@ogc.usda.gov.

SUPPLEMENTARY INFORMATION: This rule makes several changes to the United States Department of Agriculture's (USDA) delegations of authority in 7 CFR part 2 by adding new delegations and modifying existing delegations. It also repeals Part 1409, Meetings of the Board of Directors of Commodity Credit Corporation.

Overview of Changes

A. Trade and Foreign Agricultural Affairs

This rule revises the delegations of authority to reflect the establishment of the new Under Secretary for Trade and Foreign Agricultural Affairs (TFAA) position, as authorized by Congress under the Agricultural Act of 2014 (7 U.S.C. 6935). The rule also implements the realignment of the Foreign Agricultural Service (FAS) and U.S. Codex Office to comprise the new TFAA mission area. See Secretary's Memorandum (SM) 1076-017 (May 11, 2017), available at https://www.ocio.usda.gov/document/secretarys-memorandum-1076-017, and SM 1076-018 (Nov. 14, 2017), available at https://www.ocio.usda.gov/document/secretarys-memorandum-1076-018. See also 82 FR 22802-02 (May 18, 2017); 82 FR 42781-01 (Sept. 12, 2017).

This rule adds a new section of delegations by the Secretary to the Under Secretary for TFAA at § 2.26. The rule further adds a new Subpart U titled “Delegations of Authority by the Under Secretary of Trade and Foreign Agricultural Affairs.” The rule establishes a new § 2.600 with delegations to the Deputy Under Secretary for TFAA, in the event a Deputy Under Secretary is appointed. The delegations of authority to the Administrator, FAS previously located at § 2.43 under Subpart F—Delegations of Authority by the Under Secretary for Farm and Foreign Agricultural Services are now located under Subpart U at § 2.601. The rule further establishes a new § 2.602 with delegations to the Manager, U.S. Codex Office.

B. Farm Production and Conservation

This rule also revises the delegations to reflect the change in title of the former Under Secretary for Farm and Foreign Agricultural Services (FFAS) to the Under Secretary for Farm Production and Conservation (FPAC), as authorized by Section 772 of the Consolidated Appropriations Act, 2018 (Pub. L. 115-141) and section 4(a) of Reorganization Plan No. 2 of 1953 (5 U.S.C. App.; 7 U.S.C. 2201 note). The revisions reflect the realignment of the Natural Resources Conservation Service (NRCS) from the Natural Resources and Environment (NRE) mission area to the new FPAC mission area, which also includes the Farm Service Agency (FSA) and Risk Management Agency (RMA). See SM 1076-017 (May 11, 2017); 82 FR 22802-01 (May 18, 2017).

The rule accordingly reassigns the delegations of authority related to natural resources and conservation previously delegated to the Under Secretary for NRE in § 2.20 to the new Under Secretary for FPAC in § 2.16. The delegations of authority to the Chief, NRCS previously located at § 2.61 under Subpart J—Delegations of Authority by the Under Secretary for Natural Resources and Environment and adds them at § 2.43 under the retitled Subpart F—Delegations of Authority by the Under Secretary for Farm Production and Conservation. This rule also adds a new delegation to the Administrator, FSA, through the Under Secretary for FPAC, to administer funds made available to the Secretary in the Further Supplemental Appropriations for Disaster Relief Requirements Act, 2018, Public Law 115-123, for expenses related to hurricanes and wildfires occurring in calendar year 2017.

Throughout Part 2, references to the former Under Secretary for Farm and Foreign Agricultural Services are updated to refer either to the Under Secretary for FPAC or to the Under Secretary for TFAA, depending upon the context.

C. Rural Development

This rule further revises the delegations to reflect that the Rural Development agencies receive delegations from the Secretary through the Assistant to the Secretary for Rural Development, rather than through the former position of Under Secretary for Rural Development. The rule also removes the delegations to the former position of Deputy Under Secretary of Agriculture. Throughout Part 2, the titles of Under Secretary for Rural Development and Under Secretary for Rural and Economic Development are updated to read “Assistant to the Secretary for Rural Development.”

The rule also incorporates a new delegation of authority to the Administrator of the Rural Utilities Service, through the Assistant to the Secretary for Rural Development, to issue waivers to the U.S. iron and steel requirements for the construction, alteration, maintenance, or repair of a public water or wastewater system in accordance with the authority granted to the Secretary under Section 746 of Division A of the Consolidated Appropriations Act, 2018, Public Law 115-141, and any subsequent appropriations acts.

D. Organic Cost Share Programs

This rule also revises the delegations of authority to transfer the authority to administer USDA's two Organic Certification Cost Share Programs to the FSA Administrator. The authority to administer the Agricultural Management Assistance Organic Certification Cost Share Program, authorized under the Federal Crop Insurance Act (7 U.S.C. 1524(b)(4)(C)(ii)), was previously delegated to the Under Secretary for Natural Resources and the Environment, and to the Chief, NRCS. This rule revises the delegations to transfer the authority to administer the program to the Administrator, FSA through the Under Secretary for FPAC. Similarly, the authority to administer the National Organic Certification Cost Share Program, authorized under the Farm Security and Rural Investment Act of 2002, as amended by the Agricultural Act of 2014 (7 U.S.C. 6523), was previously delegated to the Administrator, Agricultural Marketing Service (AMS), through the Under Secretary for Marketing and Regulatory Programs. This rule revokes those delegations and transfers the responsibility for this program to the Administrator, FSA. See SM 1076-024 (Sept. 8, 2017) available at https://www.ocio.usda.gov/document/secretarys-memorandum-1076-024.

E. General Counsel

The rule also amends the delegations of the General Counsel at § 2.31 to require that settlement agreements above certain monetary thresholds be reviewed and concurred in by the Office of the General Counsel. See SM 1076-020 (Jan. 4, 2018) available at https://www.ocio.usda.gov/document/secretarys-memorandum-1076-020. The rule includes a conforming revision to the general delegations of authority to supervise and direct, located at § 2.7.

F. Conforming Amendments

In addition to the revisions outlined above, the rule updates the list of General Officers at § 2.4 to include the Under Secretaries for TFAA and FPAC and the Assistant to the Secretary for RD, and removes obsolete titles. In addition, the rule updates cross-references to delegations for the former Under Secretary for FFAS and to the Administrator, FAS to reflect the new Under Secretary titles and CFR unit locations.

G. Commodity Credit Corporation

This rule also amends part 1409, Meeting of the Board of Directors of Commodity Credit Corporation (CCC), by removing and reserving the part. The regulations in part 1409 were issued in 1977 pursuant to the Government in the Sunshine Act, which applied to the CCC because, at that time, the CCC was an agency “headed by a collegial body composed of two or more individual members, a majority of whom are appointed to such position by the President with the advice and consent of the Senate, and any subdivision thereof authorized to act on behalf of the agency.” See 5 U.S.C. 552b; 42 FR 14673 (Mar. 16, 1977). Under the CCC Charter Act, the Secretary is ex officio Chairman of a seven-member Board of Directors. 15 U.S.C. 714g(a). At the time part 1409 was issued, members of the CCC Board of Directors were appointed by the President, by and with the advice and consent of the Senate.

After part 1409 took effect, the CCC Board was required to make its meeting open to public observation, though the rules included a process for holding closed meetings. See 7 CFR 1409.3, 1409.4, and 1409.5. During the time following the application of the open-meeting requirements, the CCC Board held meetings infrequently because of the inability, in the presence of the public, to discuss or take action on matters of a market-sensitive nature. Since 1999, the CCC Board of Directors has held only one meeting, in May 2003. See 68 FR 25317-01 (May 12, 2003).

The Presidential Appointment Efficiency and Streamlining Act of 2011 amended the CCC Charter Act to remove the Senate confirmation requirement for Board members. Public Law 112-166, sec. 2(a)(3) (Aug. 10, 2012). Accordingly, because the Government in the Sunshine Act no longer applies to the CCC Board of Directors, USDA is deleting the regulations at part 1409.

Classification

This rule relates to internal agency management. Accordingly, pursuant to 5 U.S.C. 553, notice of proposed rulemaking and opportunity for comment are not required, and this rule may be made effective less than 30 days after publication in the Federal Register. This rule also is exempt from the provisions of Executive Orders 12866 and 13771. This action is not a rule as defined by the Regulatory Flexibility Act, as amended by the Small Business Regulatory Enforcement Fairness Act of 1996, 5 U.S.C. 601 et seq., or the Congressional Review Act, 5 U.S.C. 801 et seq., and thus is exempt from the provisions of those acts. This rule contains no information collection or recordkeeping requirements under the Paperwork Reduction Act of 1995 (44 U.S.C. 3501 et seq.).

List of Subjects

7 CFR Part 2

Authority delegations (Government agencies)

7 CFR Part 1409

Sunshine Act

Accordingly, under the authority of 7 U.S.C. 714b and as discussed in the preamble, 7 CFR parts 2 and 1409 are amended as follows:

PART 2—DELEGATIONS OF AUTHORITY BY THE SECRETARY OF AGRICULTURE AND GENERAL OFFICERS OF THE DEPARTMENT

1. The authority citation for part 2 continues to read as follows:

Authority: 7 U.S.C. 6912(a)(1); 5 U.S.C. 301; Reorganization Plan No. 2 of 1953, 3 CFR 1949-1953 Comp., p. 1024.

2. In part 2, revise all references to “Under Secretary for Rural Development” and “Under Secretary for Rural Economic and Community Development” to read “Assistant to the Secretary for Rural Development”.

Subpart A—General

3. Section 2.4 is revised to read as follows:

§ 2.4 General Officers.

The work of the Department is under the supervision and control of the Secretary who is assisted by the following general officers: The Deputy Secretary, the Under Secretary for Farm Production and Conservation; the Under Secretary for Food, Nutrition, and Consumer Services, the Under Secretary for Food Safety; the Under Secretary for Marketing and Regulatory Programs; the Under Secretary for Natural Resources and Environment; the Under Secretary for Research, Education, and Economics; the Under Secretary for Trade and Foreign Agricultural Affairs; the Assistant Secretary for Administration; the Assistant Secretary for Civil Rights; the Assistant Secretary for Congressional Relations; the Assistant to the Secretary for Rural Development; the Chief Economist; the Chief Financial Officer; the Chief Information Officer; the General Counsel; the Inspector General; the Judicial Officer; the Director, National Appeals Division; the Director, Office of Budget and Program Analysis; the Director, Office of Communications; the Director, Office of Small and Disadvantaged Business Utilization; and the Director, Office of Tribal Relations.

Subpart B—General Delegations of Authority by the Secretary of Agriculture

4. Amend § 2.7 by revising the first sentence to read as follows:

§ 2.7 Authority to Supervise and Direct.

Unless specifically reserved, or otherwise delegated (including delegations of legal functions to the General Counsel at § 2.31), the delegations of authority to each general officer of the Department and each agency head contained in this part includes the authority to direct and supervise the employees engaged in the conduct of activities under such official's jurisdiction, and the authority to take any action, execute any document, authorize any expenditure, promulgate any rule, regulation, order, or instruction required by or authorized by law and deemed by the general officer or agency head to be necessary and proper to the discharge of his or her responsibilities. * * *

Subpart C—Delegations of Authority to the Deputy Secretary, Under Secretaries, and Assistant Secretaries

5. Amend § 2.16 by:

a. Revising the section heading;

b. Revising paragraph (a) introductory text and (a)(1)(vi);

c. Adding paragraph (a)(1)(xi)

d. Revising paragraphs (a)(1)(xxvi) and (xxxii);

c. Adding paragraphs (a)(1)(xxxvii) and (xxxviii); and

d. Revising paragraphs (a)(3) and (10) and (b)(2).

The revisions and additions read as follows:

§ 2.16 Under Secretary for Farm Production and Conservation.

(a) The following delegations of authority are made by the Secretary of Agriculture to the Under Secretary for Farm Production and Conservation:

(1) * * *

(vi) Conduct fiscal, accounting and claims functions relating to Commodity Credit Corporation (CCC) programs for which the Under Secretary for Farm Production and Conservation has been delegated authority.

* * * * *

(xi) Administer the Organic Certification Cost Share Programs authorized under the Federal Crop Insurance Act (7 U.S.C. 1524(b)(4)(C)(ii), and under the Farm Security and Rural Investment Act, as amended by the Agricultural Act of 2014 (7 U.S.C. 6523). [Reserved]

* * * * *

(xxvi) Administer the following provisions of the Farm Security and Rural Investment Act of 2002 with respect to functions otherwise delegated to the Under Secretary for Farm Production and Conservation:

* * * * *

(xxxii) Implement the authority in section 1241 of the Food Security Act of 1985 (16 U.S.C. 3841) to accept and use voluntary contributions of non-Federal funds in support of natural resources conservation programs under subtitle D of title XII of that Act with respect to authorities delegated to the Under Secretary for Farm Production and Conservation.

* * * * *

(xxxvii) Administer the funds made available to the Office of the Secretary under Title I of Subdivision B, Further Supplemental Appropriations for Disaster Relief Requirements Act, 2018, Public Law 115-123.

(xxxviii) Determine the agricultural commodities acquired under price support programs which are available for export.

* * * * *

(3) Related to natural resources conservation. (i) Provide national leadership in the conservation, development and productive use of the Nation's soil, water, and related resources. Such leadership encompasses soil, water, plant, and wildlife conservation; small watershed protection and flood prevention; and resource conservation and development. Integrated in these programs are erosion control, sediment reduction, pollution abatement, land use planning, multiple use, improvement of water quality, and several surveying and monitoring activities related to environmental improvement. All are designed to assure:

(A) Quality in the natural resource base for sustained use;

(B) Quality in the environment to provide attractive, convenient, and satisfying places to live, work, and play; and

(C) Quality in the standard of living based on community improvement and adequate income.

(ii) Provide national leadership in and evaluate and coordinate land use policy, and administer the Farmland Protection Policy Act (7 U.S.C. 4201 et seq.), including the Farms for the Future Program authorized by sections 1465-1470 of the Food, Agriculture, Conservation, and Trade Act of 1990, as amended (7 U.S.C. 4201 note), except as otherwise delegated to the Under Secretary for Research, Education, and Economics in § 2.21(a)(1)(lxii).

(iii) Administer the basic program of soil and water conservation under Public Law 46, 74th Congress, as amended, and related laws (16 U.S.C. 590 a-f, i-l, q, q-1; 42 U.S.C. 3271-3274; 7 U.S.C. 2201), including:

(A) Technical and financial assistance to land users in carrying out locally adapted soil and water conservation programs primarily through soil and water conservation districts in the several States, the District of Columbia, the Commonwealth of Puerto Rico, and the Commonwealth of the Northern Mariana Islands, American Samoa, Guam, the Virgin Islands, and Federally recognized Native American tribes, but also to communities, watershed groups, Federal and State agencies, and other cooperators. This authority includes such assistance as:

(1) Comprehensive planning assistance in nonmetropolitan districts;

(2) Assistance in the field of income-producing recreation on rural non-Federal lands;

(3) Forestry assistance, as part of total technical assistance to private land owners and land users when such services are an integral part of land management and such services are not available from a State agency; and forestry services in connection with windbreaks and shelter belts to prevent wind and water erosion of lands;

(4) Assistance in developing programs relating to natural beauty; and

(5) Assistance to other USDA agencies in connection with the administration of their programs, as follows:

(i) To the Farm Service Agency in the development and technical servicing of certain programs, such as the Agricultural Conservation Program and other such similar conservation programs;

(ii) To the Rural Housing Service in connection with their loan and land disposition programs;

(B) Soil Surveys, including:

(1) Providing leadership for the Federal part of the National Cooperative Soil Survey which includes conducting and publishing soil surveys;

(2) Conducting soil surveys for resource planning and development; and

(3) Performing the cartographic services essential to carrying out the functions of the Natural Resources Conservation Service, including furnishing photographs, mosaics, and maps;

(C) Conducting and coordinating snow surveys and making water supply forecasts pursuant to Reorganization Plan No. IV of 1940 (5 U.S.C. App.);

(D) Operating plant materials centers for the assembly and testing of plant species in conservation programs, including the use, administration, and disposition of lands under the administration of the Natural Resources Conservation Service for such purposes under title III of the Bankhead-Jones Farm Tenant Act (7 U.S.C. 1010-1011); and

(E) Providing leadership in the inventorying and monitoring of soil, water, land, and related resources of the Nation.

(iv) Administer the Watershed Protection and Flood Prevention Programs, including:

(A) The eleven authorized watershed projects authorized under 33 U.S.C. 702b-1;

(B) The emergency flood control work under 33 U.S.C. 701b-1;

(C) The Cooperative River Basin Surveys and Investigations Programs under 16 U.S.C. 1006;

(D) The pilot watershed projects under 16 U.S.C. 590 a-f and 16 U.S.C. 1001-1009;

(E) The Watershed Protection and Flood Prevention Program under 16 U.S.C. 1001-1010, including rehabilitation of water resource structural measures constructed under certain Department of Agriculture programs under 16 U.S.C. 1012, except for responsibilities assigned to the Assistant to the Secretary for Rural Development.

(F) The joint investigations and surveys with the Department of the Army under 16 U.S.C. 1009; and

(G) The Emergency Conservation Program and the Emergency Watershed Protection Program under sections 401-405 of the Agricultural Credit Act of 1978, 16 U.S.C. 2201-2205, except for the provisions of sections 401 and 402, 16 U.S.C. 2201-2202, as administered by the Under Secretary for Farm Production and Conservation.

(v) Administer the Great Plains Conservation Program and the Critical Lands Resources Conservation Program under 16 U.S.C. 590p(b), 590q and 590q-3.

(vi) Administer the Resource Conservation and Development Program under 16 U.S.C. 590 a-f; 7 U.S.C. 1010-1011; and 16 U.S.C. 3451-3461, except for responsibilities assigned to the Assistant to the Secretary for Rural Development.

(vii) Responsibility for entering into long-term contracts for carrying out conservation and environmental measures in watershed areas.

(viii) Provide national leadership for and administer the Soil and Water Resources Conservation Act of 1977 (16 U.S.C. 2001 et seq.).

(ix) Administer the Rural Clean Water Program and other responsibilities assigned under section 35 of the Clean Water Act of 1977 (33 U.S.C. 1251 et seq.).

(x) Monitor actions and progress of USDA in complying with Executive Order 11988, Flood Plain Management, 3 CFR, 1977 Comp., p. 117, and Executive Order 11990, Protection of Wetlands, 3 CFR, 1977 Comp., p. 121, regarding management of floodplains and protection of wetlands; monitor USDA efforts on protection of important agricultural, forest and rangelands; and provide staff assistance to the USDA Natural Resources and Environment Committee.

(xi) Administer the search and rescue operations authorized under 7 U.S.C. 2273.

(xii) Administer section 202(c) of the Colorado River Basin Salinity Control Act, 43 U.S.C. 1592(c), including:

(A) Identify salt source areas and determine the salt load resulting from irrigation and watershed management practices;

(B) Conduct salinity control studies of irrigated salt source areas;

(C) Provide technical and financial assistance in the implementation of salinity control projects including the development of salinity control plans, technical services for application, and certification of practice applications;

(D) Develop plans for implementing measures that will reduce the salt load of the Colorado River;

(E) Develop and implement long-term monitoring and evaluation plans to measure and report progress and accomplishments in achieving program objectives; and

(F) Enter into and administer contracts with program participants and waive cost-sharing requirements when such cost-sharing requirements would result in a failure to proceed with needed on-farm measures.

(xiii) Except as otherwise delegated, administer natural resources conservation authorities, including authorities related to programs of the Commodity Credit Corporation that provide assistance with respect to natural resources conservation, under Title XII of the Food Security Act of 1985 (the Act), as amended (16 U.S.C. 3801 et seq.), including the following:

(A) Technical assistance related to the conservation of highly erodible lands and wetlands pursuant to sections 1211-1223 of the Act (16 U.S.C. 3811-3823).

(B) Technical assistance related to the Conservation Reserve Program authorized by sections 1231-1235A of the Act (16 U.S.C. 3831-3835a).

(C) The Wetlands Reserve Program and the Emergency Wetlands Reserve Program authorized by sections 1237-1237F of the Act (16 U.S.C. 3837-3837f) and the Emergency Supplemental Appropriations for Relief from the Major, Widespread Flooding in the Midwest Act, Public Law 103-75.

(D) The Conservation Security Program authorized by sections 1238-1238C (16 U.S.C. 3838-3838c) and the Conservation Stewardship Program authorized by sections 1238D-1238G (16 U.S.C. 3838d-3838g).

(E) The Farmland Protection Program authorized by sections 1238H-1238I of the Act (16 U.S.C. 3838h-3838i).

(F) The Farm Viability Program authorized by section 1238J of the Act (16 U.S.C. 3838j).

(G) The Environmental Easement Program authorized by sections 1239-1239D of the Act (16 U.S.C. 3839-3839d).

(H) The Environmental Quality Incentives Program authorized by sections 1240-1240I of the Act (16 U.S.C. 3839aa-3839aa-9).

(I) The conservation of private grazing lands authorized by section 1240M of the Act (16 U.S.C. 3839bb).

(J) The Wildlife Habitat Incentives Program authorized by section 1240N of the Act (16 U.S.C. 3839bb-1).

(K) The program for soil erosion and sedimentation control in the Great Lakes basin authorized by section 1240P of the Act (16 U.S.C. 3839bb-3).

(L) The delivery of technical assistance under section 1242 of the Act (16 U.S.C. 3842), including the approval of persons or entities outside of USDA to provide technical services.

(M) The authority for partnerships and cooperation provided by section 1243 of the Act (16 U.S.C. 3843).

(N) The incentives for certain farmers and ranchers and Indian tribes and the protection of certain proprietary information related to natural resources conservation programs as provided by section 1244 of the Act (16 U.S.C. 3844).

(O) The Agriculture Conservation Experienced Services Program authorized by section 1252 of the Act (16 U.S.C. 3851).

(P) The authority under sections 1261-1262 of the Act (16 U.S.C. 3861-3862) to establish and utilize State Technical Committees.

(Q) The Grassland Reserve Program under sections 1238N-1238Q of the Act (16 U.S.C. 3838n-3838q).

(R) The authority in section 1241 of the Act (16 U.S.C. 3841) to accept and use voluntary contributions of non-Federal funds in support of natural resources conservation programs under subtitle D of title XII of the Act with respect to authorities delegated to the Under Secretary for Farm Production and Conservation.

(S) The Agricultural Conservation Easement Program authorized by sections 1265-1265D of the Act (16 U.S.C. 3865-3865d).

(T) The Regional Conservation Partnership Program authorized by sections 1271-1271F (16 U.S.C. 3871-3871f).

(U) The Voluntary Public Access and Habitat Incentive Program authorized by section 1240R of the Act (16 U.S.C. 3839bb-5).

(V) A wetlands mitigation banking program authorized by section 1222(k) of the Act (16 U.S.C. 3822(k)).

(xiv) Approve and transmit to the Congress comprehensive river basin reports.

(xv) Provide representation on the Water Resources Council and river basin commissions created by 42 U.S.C. 1962, and on river basin interagency committees.

(xvii) Administer the Water Bank Program under the Water Bank Act (16 U.S.C. 1301 et seq.).

(xviii) [Reserved]

(xix) Coordinate USDA input and assistance to the Department of Commerce and other Federal agencies consistent with section 307 of the Coastal Zone Management Act of 1972 (16 U.S.C. 1456), and coordinate USDA review of qualifying state and local government coastal management plans or programs prepared under such Act and submitted to the Secretary of Commerce, consistent with section 306(a) and (c) of such Act (16 U.S.C. 1455(a) and (c)).

(xx) Administer the Healthy Forests Reserve Program authorized by sections 501-508, Title V of the Healthy Forests Restoration Act of 2003 (16 U.S.C. 6571-6578).

(xxi) Implement the information disclosure authorities of section 1619(b)(3)(A) of the Food, Conservation, and Energy Act of 2008 (7 U.S.C. 8791(b)(3)(A)).

(xxii) In coordination with the Director, Office of Advocacy and Outreach, issue receipts under section 2501A(e) of the Food, Agriculture, Conservation, and Trade Act of 1990 (7 U.S.C. 2279-1(e)).

(xxiii) Authorize employees of the Natural Resources Conservation Service to carry and use firearms for personal protection while conducting field work in remote locations in the performance of their official duties (7 U.S.C. 2274a).

(xxiv) Conduct activities that assist the Chief Economist in developing guidelines regarding the development of environmental services markets.

(xxv) Administer the Terminal Lakes assistance program authorized by section 2507 of the Farm Security and Rural Investment Act of 2002 (16 U.S.C. 3839bb-6).

* * * * *

(10) Carry out prize competition authorities in section 24 of the Stevenson-Wydler Technology Innovation Act of 1980 (15 U.S.C. 3719) related to functions otherwise delegated to the Under Secretary for Farm Production and Conservation, except for authorities delegated to the Chief Financial Officer in § 2.28(a)(29) and authorities reserved to the Secretary in paragraph (b)(4) of this section.

(b) * * *

(2) Related to natural resources conservation. Designation of new project areas in which the resource conservation and development program assistance will be provided.

* * * * *

6. Amend § 2.17 by adding paragraph (a)(20)(xiv) to read as follows:

§ 2.17 Assistant to the Secretary for Rural Development.

(a) * * *

(20) * * *

(xiv) Administer the authority under section 746 of Division A of the Consolidated Appropriations Act, 2018 (Pub. L. 115-141), and any successor provisions in subsequent appropriations acts, to issue waivers to the U.S. iron and steel requirements for the construction, alteration, maintenance, or repair of a public water or wastewater system.

* * * * *

§ 2.20 [Amended]

7. Amend § 2.20 by removing and reserving paragraph (a)(3).

§ 2.22 [Amended]

8. Amend § 2.22 by:

a. Revising all references to “2.16(a)(3)(x)” to read “2.26(a)(1)(x)”;

b. Revising all references to “Under Secretary for Farm and Foreign Agricultural Services” to read “Under Secretary for Trade and Foreign Agricultural Affairs”; and

c. Removing and reserving paragraph (a)(1)(viii)(DDD).

9. Add § 2.26 to read as follows:

§ 2.26 Under Secretary for Trade and Foreign Agricultural Affairs.

(a) The following delegations of authority are made by the Secretary of Agriculture to the Under Secretary for Trade and Foreign Agricultural Affairs:

(1) Related to foreign agriculture. (i) Coordinate the carrying out by Department agencies of their functions involving foreign agricultural policies and programs and their operations and activities in foreign areas. Act as liaison on these matters and functions relating to foreign agriculture between the Department of Agriculture and the Department of State, the United States Trade Representative, the Trade Policy Committee, the Agency for International Development, and other departments, agencies, and committees of the U.S. Government, foreign governments, the Organization for Economic Cooperation and Development, the European Union, the Food and Agriculture Organization of the United Nations, the International Bank for Reconstruction and Development, the Inter-American Development Bank, the Organization of American States, and other public and private U.S. and international organizations, and the contracting parties to the World Trade Organization (WTO).

(ii) Administer Departmental programs concerned with development of foreign markets for agricultural products of the United States except functions relating to export marketing operations under section 32 of the Act of August 23, 1935, as amended (7 U.S.C. 612c), delegated to the Under Secretary for Marketing and Regulatory Programs, and utilization research delegated to the Under Secretary for Research, Education, and Economics.

(iii) Conduct studies of worldwide production, trade, marketing, prices, consumption, and other factors affecting exports and imports of U.S. agricultural commodities; obtain information on methods used by other countries to move farm commodities in world trade on a competitive basis for use in the development of programs of this Department; provide information to domestic producers, the agricultural trade, the public and other interests; and promote normal commercial markets abroad. This delegation excludes basic and long-range analyses of world conditions and developments affecting supply, demand, and trade in farm products and general economic analyses of the international financial and monetary aspects of agricultural affairs as assigned to the Under Secretary for Research, Education, and Economics.

(iv) Conduct functions of the Department relating to WTO, the Trade Expansion Act of 1962 (19 U.S.C. 1801 et seq.), the Trade Act of 1974 (19 U.S.C. 2101 et seq.), the Trade Agreements Act of 1979 (19 U.S.C. 2501 et seq.), the Omnibus Trade and Competition Act of 1988 (19 U.S.C. 2901 et seq.), the provisions of subtitle B of title III of the North American Free Trade Agreement Implementation Act, and other legislation affecting international agricultural trade including the programs designed to reduce foreign tariffs and other trade barriers.

(v) Maintain a worldwide agricultural intelligence and reporting system, including provision for foreign agricultural representation abroad to protect and promote U.S. agricultural interests and to acquire information on demand, competition, marketing, and distribution of U.S. agricultural commodities abroad pursuant to title VI of the Agricultural Act of 1954, as amended (7 U.S.C. 1761-1768).

(vi) Exercise the Department's functions with respect to the International Coffee Agreement or any such future agreement.

(vii) Administer functions of the Department relating to import controls, except those functions reserved to the Secretary in paragraph (b) of this section and those relating to section 8e of the Agricultural Act of 1938 (7 U.S.C. 608e-1), as assigned to the Under Secretary for Marketing and Regulatory Programs. These include:

(A) Functions under section 22 of the Agricultural Adjustment Act of 1933, as amended (7 U.S.C. 624);

(B) General note 15(c) to the Harmonized Tariff Schedule of the United States (19 U.S.C. 1202);

(C) Requests for emergency relief from duty-free imports of perishable products filed with the Department of Agriculture under section 213(f) of the Caribbean Basin Recovery Act of 1983 (19 U.S.C. 2703(f));

(D) Section 404 of the Trade and Tariff Act of 1984 (19 U.S.C. 2112 note);

(E) Section 204(d) of the Andean Trade Preference Act (19 U.S.C. 3203(d));

(F) Functions under sections 309 and 316 of the North American Free Trade Agreement Implementation Act (19 U.S.C. 3358 and 3381);

(G) Section 301(a) of the United States-Canada Free Trade Agreement Implementation Act (19 U.S.C. 2112 note); and

(H) Section 204 of the Agricultural Act of 1956, as amended (7 U.S.C. 1854).

(viii) Conduct Department activities to carry out the provisions of the Export Administration Act of 1979, as amended (50 U.S.C. Chapter 56).

(ix) Exercise the Department's responsibilities in connection with international negotiations of the Grains Trade Convention and in the administration of such Convention.

(x) Plan and carry out programs and activities under the foreign market promotion authority of: The Wheat Research and Promotion Act (7 U.S.C. 1292 note); the Cotton Research and Promotion Act (7 U.S.C. 2101-2118); the Potato Research and Promotion Act (7 U.S.C. 2611-2627); the Egg Research and Consumer Information Act of 1974 (7 U.S.C. 2701-2718); the Beef Research and Information Act, as amended (7 U.S.C. 2901-2911); the Wheat and Wheat Foods Research and Nutrition Education Act (7 U.S.C. 3401-3417); the Floral Research and Consumer Information Act of 1981 (7 U.S.C. 4301-4319); subtitle B of title I of the Dairy and Tobacco Adjustment Act of 1983 (7 U.S.C. 4501-4514); the Honey Research, Promotion, and Consumer Information Act of 1984, as amended (7 U.S.C. 4601-4613); the Pork Promotion, Research, and Consumer Information Act of 1985 (7 U.S.C. 4801-4819); the Watermelon Research and Promotion Act, as amended (7 U.S.C. 4901-4916); the Pecan Promotion and Research Act of 1990 (7 U.S.C. 6001-6013); the Mushroom Promotion, Research, and Consumer Information Act of 1990 (7 U.S.C. 6101-6112); the Lime Research, Promotion, and Consumer Information Act of 1990 (7 U.S.C. 6201-6212); the Soybean Promotion, Research, and Consumer Information Act of 1990 (7 U.S.C. 6301-6311); the Fluid Milk Promotion Act of 1990 (7 U.S.C. 6401-6417); the Fresh Cut Flowers and Fresh Cut Greens Promotion and Consumer Information Act (7 U.S.C. 6801-6814); the Sheep Promotion, Research, and Information Act of 1994 (7 U.S.C. 7101-7111); the Commodity Promotion, Research, and Information Act of 1996 (7 U.S.C. 7411-7425); the Canola and Rapeseed Research, Promotion, and Consumer Information Act (7 U.S.C. 7441-7452); the National Kiwifruit Research, Promotion, and Consumer Information Act (7 U.S.C. 7461-7473); and, the Popcorn Promotion, Research, and Consumer Information Act (7 U.S.C. 7481-7491). This authority includes determining the programs and activities to be undertaken and assuring that they are coordinated with the overall departmental programs to develop foreign markets for U.S. agricultural products.

(xi) Formulate policies and administer barter programs under which agricultural commodities are exported.

(xii) Perform functions of the Department in connection with the development and implementation of agreements to finance the sale and exportation of agricultural commodities under the Food for Peace Act (7 U.S.C. 1691, 1701 et seq.).

(xiii) [Reserved]

(xiv) Coordinate within the Department activities arising under the Food for Peace Act (except as delegated to the Under Secretary for Research, Education, and Economics in § 2.21(a)(8)), and represent the Department in its relationships in such matters with the Department of State, any interagency committee on the Food for Peace Act, and other departments, agencies and committees of the Government.

(xv)-(xvi) [Reserved]

(xvii) Carry out activities relating to the sale, reduction, or cancellation of debt, as authorized by title VI of the Agricultural Trade and Development Act of 1954, as amended (7 U.S.C. 1738 et seq.).

(xviii) [Reserved]

(xix) Allocate the agricultural commodities acquired under price support programs that have been determined by the Under Secretary for Farm Production and Conservation or designee to be available for export among the various export programs.

(xx) Conduct economic analyses pertaining to the foreign sugar situation.

(xxi) Exercise the Department's functions with respect to the International Sugar Agreement or any such future agreements.

(xxii) Exercise the Department's responsibilities with respect to tariff-rate quotes for dairy products under chapter 4 of the Harmonized Tariff Schedule of the United States (19 U.S.C. 1202).

(xxiii) Serve as a focal point for handling quality or weight discrepancy inquiries from foreign buyers of U.S. agricultural commodities to insure that they are investigated and receive a timely response and that reports thereof are made to appropriate parties and government officials in order that corrective action may be taken.

(xxiv) Establish and administer regulations relating to foreign travel by employees of the Department. Regulations will include, but not be limited to, obtaining and controlling passports, obtaining visas, coordinating Department of State medical clearances and imposing requirements for itineraries and contacting the Foreign Agricultural Affairs Officers upon arrival in the Officers' country(ies) of responsibility.

(xxv) Formulate policies and administer programs and activities authorized by the Agricultural Trade Act of 1978, as amended (7 U.S.C. 5601 et seq.).

(xxvi) Administer the Foreign Service personnel system for the Department in accordance with 22 U.S.C. 3922, except as otherwise delegated to the Under Secretary for Marketing and Regulatory Programs in § 2.22(a)(2)(i), but including authority to approve joint regulations issued by the Department of State and authority to represent the Department of Agriculture in all interagency consultations and negotiations with the other foreign affairs agencies with respect to joint regulations.

(xxvii) Establish and maintain U.S. Agricultural Trade Offices, to develop, maintain and expand international markets for U.S. agricultural commodities in accordance with title IV of Public Law No. 95-501 (7 U.S.C. 1765a-g).

(xxviii) Administer the programs under section 416(b) of the Agricultural Act of 1949, as amended (7 U.S.C. 1431(b)), relating to the foreign donation of CCC stocks of agricultural commodities, except as otherwise delegated in § 2.42(a)(43).

(xxix) Support remote sensing activities of the Department and research with satellite imagery including:

(A) Providing liaison with U.S. space programs;

(B) Providing administrative management of the USDA Remote Sensing Archive and the transfer of satellite imagery to all USDA agencies;

(C) Coordinating all agency satellite imagery data needs; and

(D) Arranging for acquisition, and preparation of imagery for use to the extent of existing capabilities.

(xxx) [Reserved]

(xxxi) Administer programs under the Food for Progress Act of 1985 (7 U.S.C. 1736o), except as otherwise delegated in § 2.42(a)(43).

(xxxii) Serve as Department adviser on policies, organizational arrangements, budgets, and actions to accomplish international scientific and technical cooperation in food and agriculture.

(xxxiii) Administer and direct the Department's programs in international development, technical assistance, and training carried out under the Foreign Assistance Act, as amended, as requested under such act (22 U.S.C. 2151 et seq.).

(xxxiv) Administer and coordinate assigned Departmental programs in international research and scientific and technical cooperation with other governmental agencies, land grant universities, international organizations, international agricultural research centers, and other organizations, institutions, or individuals (7 U.S.C. 1624, 3291).

(xxxv) Direct and coordinate the Department's participation in scientific and technical matters and exchange agreements between the United States and other countries.

(xxxvi) Direct and coordinate the Department's work with international organizations and interagency committees concerned with food and agricultural development programs (7 U.S.C. 2201-2202).

(xxxvii) Coordinate policy formulation for USDA international science and technology programs concerning international agricultural research centers, international organizations, and international agricultural research and extension activities (7 U.S.C. 3291).

(xxxviii) Disseminate, upon request, information on subjects connected with agriculture which has been acquired by USDA agencies that may be useful to the U.S. private sector in expanding foreign markets and investment opportunities through the operation of a Department information center, pursuant to 7 U.S.C. 2201.

(xxxix) Enter into contracts, grants, cooperative agreements, and cost reimbursable agreements relating to agricultural research, extension, or teaching activities (7 U.S.C. 3318, 3319a).

(xl) Determine amounts reimbursable for indirect costs under international agricultural programs and agreements (7 U.S.C. 3319).

(xli) Administer the Cochran Fellowship Program (7 U.S.C. 3293).

(xlii) Determine quantity trigger levels and impose additional duties under the special safeguard measures in accordance with U.S. note 2 to subchapter IV of chapter 99 of the Harmonized Tariff Schedule of the United States (19 U.S.C. 1202).

(xliii) Implement provisions of the Trade Act of 1974 regarding adjustment assistance for farmers (19 U.S.C. 2401-2401g).

(xliv) Implement section 3107 of the Farm Security and Rural Investment Act of 2002 (7 U.S.C. 1736o-1).

(xlv) [Reserved]

(xlvi) Implement section 3206 of the Food, Conservation, and Energy Act of 2008 (7 U.S.C. 1726c) regarding local and regional food aid procurement projects.

(xlvii) Administer the Borlaug International Agricultural Science and Technology Fellowship Program (7 U.S.C. 3319j).

(xlviii) [Reserved]

(xlix) Administer the following provisions of the Agricultural Act of 2014, Public Law 113-79:

(A) Section 12314 relating to the Pima Agriculture Cotton Trust Fund (7 U.S.C. 2101 note), in coordination with the Under Secretary for Farm Production and Conservation.

(B) Section 12315 relating to the Agriculture Wool Apparel Manufacturers Trust Fund (7 U.S.C. 7101 note), in coordination with the Under Secretary for Farm Production and Conservation.

(2) [Reserved]

(3) Administer responsibilities and functions assigned under the Defense Production Act of 1950 (50 U.S.C. App. 2061 et seq.), and title VI of the Robert T. Stafford Disaster Relief and Emergency Assistance Act (42 U.S.C. 5195 et seq.), concerning foreign agricultural intelligence and other foreign agricultural matters.

(4) Carry out prize competition authorities in section 24 of the Stevenson-Wydler Technology Innovation Act of 1980 (15 U.S.C. 3719) related to functions otherwise delegated to the Under Secretary for Trade and Foreign Agricultural Affairs, except for authorities delegated to the Chief Financial Officer in § 2.28(a)(29) and authorities reserved to the Secretary in paragraph (b)(2) of this section.

(5) Related to the U.S. Codex Office. (i) Inform the public of the sanitary and phytosanitary standard-setting activities of the Codex Alimentarius Commission (19 U.S.C. 2578; Pres. Proc. 6780).

(ii) Enter into agreements with organizations, institutions or individuals throughout the world to conduct activities related to the sanitary and phytosanitary standard-setting activities of the Codex Alimentarius Commission, including international outreach and education, in order to promote and support the development of a viable and sustainable global agricultural system; antihunger and improved international nutrition efforts; and increased quantity, quality, and availability of food (7 U.S.C. 3291).

(iii) Coordinate with institutions and other persons throughout the world performing agricultural and related research, extension, and teaching activities by exchanging research materials and results with such institutions or persons or by conducting with such institutions or persons joint or coordinated research, extension, or teaching activities that are related to the sanitary and phytosanitary standard-setting activities of the Codex Alimentarius Commission and that address problems of significance to food and agriculture in the United States (7 U.S.C. 3291).

(iv) Work with transitional and more advanced countries in food, agricultural, and related research, development, teaching, and extension activities related to the sanitary and phytosanitary standard-setting activities of the Codex Alimentarius Commission (7 U.S.C. 3291).

(v) Enter into contracts, grants, cooperative agreements, and cost reimbursable agreements to carry out the Department's agricultural research, extension, or teaching activities related to the sanitary and phytosanitary standard-setting activities of the Codex Alimentarius Commission (7 U.S.C. 3318, 3319a).

(vi) Determine amounts reimbursable for indirect costs under international agricultural programs and agreements (7 U.S.C. 3319).

(vii) Coordinate policy formulation for USDA international science and technology programs concerning the sanitary and phytosanitary standard-setting activities of the Codex Alimentarius Commission (7 U.S.C. 3291).

(b) The following authorities are reserved to the Secretary of Agriculture:

(1) Related to foreign agriculture. (i) Approving export controls with respect to any agricultural commodity, including fats and oils or animal hides or skins as provided for in the Export Administration Act of 1969, as amended (50 U.S.C. App. 2401 et seq.).

(ii) Advising the President that imports are having the effect on programs or operations of this Department required as a prerequisite for the imposition of import controls under section 22 of the Agricultural Adjustment Act of 1933, as amended (7 U.S.C. 624a), recommending that the President cause an investigation to be made by the Tariff Commission of the facts so that a determination can be made whether import restrictions should be imposed under that Act, and determining under section 204(e) of the Andean Trade Preference Act (19 U.S.C. 3203(e)) that there exists a serious injury, or threat thereof and recommending to the President whether or not to take action.

(iii) Determining the agricultural commodities and the quantities thereof available for disposition under the Food for Peace Act (7 U.S.C. 1731).

(2) Approval of prize competitions that may result in the award of more than $1,000,000 in cash prizes under section 24(m)(4)(B) of the Stevenson-Wydler Technology Innovation Act of 1980 (15 U.S.C. 3719(m)(4)(B)).

Subpart D—Delegations of Authority to Other General Officers and Agency Heads

10. Amend § 2.31 by revising paragraph (a)(18) and adding paragraphs (a)(19) and (20) to read as follows:

§ 2.31 General Counsel.

(a) * * *

(18) Conduct legal sufficiency reviews and concur before a proposed settlement offer is made to an opposing party for all informal and formal Equal Employment Opportunity (EEO), Office of Special Counsel (OSC), or Merit Systems Protection Board (MSPB) complaints that:

(i) Require a payment of compensatory damages or attorney's fees resulting in costs to the Department totaling $50,000 or more; or

(ii) Are brought by, or allege discriminatory conduct by, any political appointee; or

(iii) Place any political appointee on a detail outside the Department or on an Intergovernmental Personnel Act (IPA) agreement for one year or more if the Department retains the obligation to pay the employee's salary and benefits during the duration of the detail or IPA agreement.

(19) Review monetary settlement agreements of any dollar amount negotiated by USDA offices or agencies upon request except that legal sufficiency review conducted by and concurrence from the Office of the General Counsel is required prior to execution for all proposed settlement agreements negotiated by USDA offices or agencies totaling $500,000 or more, including attorney's fees. This required review is in addition to existing delegations of authority and processes for USDA offices' or agencies' processing of settlement agreements. This required review does not apply to:

(i) Settlements pursuant to the Federal Tort Claims Act, which the Office of the General Counsel handles pursuant to paragraph (a)(1) of this section;

(ii) Settlements for personnel matters, which the Office of the General Counsel handles pursuant to paragraph (a)(18) of this section;

(iii) Settlement of contract claims, which contracting officers handle pursuant to the Contract Disputes Act (41 U.S.C. 601 et seq.) and Federal Acquisition Regulation (48 CFR parts 1 through 99); or

(iv) Settlement of USDA offices' or agencies' debt collection actions.

(20) Conduct legal sufficiency reviews and concur with all proposed agency contracts or other transactions to retain outside counsel or for the provision of legal services regardless of whether an agency has specific statutory authority to retain outside counsel or legal services. The following services do not require legal sufficiency review and concurrence from the Office of the General Counsel: Contracts for the provision of services in relation to USDA office's and agencies' Freedom of Information Act activities; contracts for the performance of trademark searches or other trademark or copyright related services; or contracts for the performance of patent prosecution or other related patent services.

* * * * *

Subpart F—Delegations of Authority by the Under Secretary for Farm Production and Conservation

11. The heading for subpart F is revised to read as set forth above.

12. Revise § 2.40 to read as follows:

§ 2.40 Deputy Under Secretary for Farm Production and Conservation.

Pursuant to § 2.16(a), subject to reservations in § 2.16(b), and subject to policy guidance and direction by the Under Secretary, the following delegation of authority is made to the Deputy Under Secretary for Farm Production and Conservation, to be exercised only during the absence or unavailability of the Under Secretary: Perform all the duties and exercise all the powers which are now or which may hereafter be delegated to the Under Secretary for Farm Production and Conservation: Provided, that this authority shall be exercised by the respective Deputy Under Secretary in the order in which he or she has taken office as a Deputy Under Secretary.

13. Amend § 2.42 by:

a. Revising paragraph (a) introductory text;

b. Removing the citation “§ 2.43” and adding in its place the citation “§ 2.601” in paragraph (a)(7);

c. Removing the words “Under Secretary for Farm and Foreign Agricultural Services” and adding in their place the words “Under Secretary for Trade and Foreign Agricultural Affairs” in paragraph (a)(11);

d. Removing the words “Under Secretary for Farm and Foreign Agricultural Services” and adding in their place the words “Under Secretary for Farm Production and Conservation” in paragraph (a)(45);

e. Adding paragraphs (a)(60), (61), and (62); and

f. Removing the words “Under Secretary for Farm and Foreign Agricultural Affairs” and adding in their place the words “Under Secretary for Farm Production and Conservation” in paragraph (b) introductory text.

The revisions and additions read as follows:

§ 2.42 Administrator, Farm Service Agency.

(a) Delegations. Pursuant to § 2.16(a)(1) and (2) and (a)(6) through (8), subject to the reservations in § 2.16(b)(1), the following delegations of authority are made by the Under Secretary for Farm Production and Conservation to the Administrator, Farm Service Agency:

* * * * *

(60) Administer the funds made available to the Office of the Secretary under Title I of Subdivision B, Further Supplemental Appropriations for Disaster Relief Requirements Act, 2018, Public Law 115-123.

(61) Administer the Organic Certification Cost Share Programs authorized under the Federal Crop Insurance Act (7 U.S.C. 1524(b)(4)(C)(ii), and under the Farm Security and Rural Investment Act, as amended by the Agricultural Act of 2014 (7 U.S.C. 6523).

(62) Determine the agricultural commodities acquired under price support programs which are available for export.

* * * * *

14. Revise § 2.43 to read as follows:

§ 2.43 Chief, Natural Resources and Conservation Service.

(a) Delegations. Pursuant to § 2.16(a)(3), subject to reservations in § 2.16(b) of this chapter, the following delegations of authority are made by the Under Secretary for Farm Production and Conservation to the Chief of the Natural Resources Conservation Service:

(1) Provide national leadership in the conservation, development and productive use of the Nation's soil, water, and related resources. Such leadership encompasses soil, water, plant, and wildlife conservation; small watershed protection and flood prevention; and resource conservation and development. Integrated in these programs are erosion control, sediment reduction, pollution abatement, land use planning, multiple use, improvement of water quality, and several surveying and monitoring activities related to environmental improvement. All are designed to assure:

(i) Quality in the natural resource base for sustained use;

(ii) Quality in the environment to provide attractive, convenient, and satisfying places to live, work, and play; and

(iii) Quality in the standard of living based on community improvement and adequate income.

(2) Provide national leadership in evaluating and coordinating land use policy, and administer the Farmland Protection Policy Act (7 U.S.C. 4201 et seq.), including the Farms for the Future Program authorized by sections 1465-1470 of the Food, Agriculture, Conservation, and Trade Act of 1990 (7 U.S.C. 4201 note), except as otherwise delegated to the Administrator, Agricultural Research Service in § 2.65(a)(80) and the Director, National Institute of Food and Agriculture in § 2.66(a)(76).

(3) Administer the basic program of soil and water conservation under Public Law No. 46, 74th Congress, as amended, and related laws (16 U.S.C. 590a-f, 1-1, q, q-1; 42 U.S.C. 3271-3274; 7 U.S.C. 2201), including:

(i) Technical and financial assistance to land users in carrying out locally adapted soil and water conservation programs primarily through soil and water conservation districts in the several States, the District of Columbia, the Commonwealth of Puerto Rico, and the Commonwealth of the Northern Mariana Islands, American Samoa, Guam, the Virgin Islands, and Federally recognized Native American tribes, but also to communities, watershed groups, Federal and State agencies, and other cooperators. This authority includes such assistance as:

(A) Comprehensive planning assistance in nonmetropolitan districts;

(B) Assistance in the field of income-producing recreation on rural non-Federal lands;

(C) Forestry assistance, as part of total technical assistance to private land owners and land users when such services are an integral part of land management and such services are not available from a State agency; and forestry services in connection with windbreaks and shelter belts to prevent wind and water erosion of lands;

(D) Assistance in developing programs relating to natural beauty; and

(E) Assistance to other USDA agencies in connection with the administration of their programs, as follows:

(1) To the Farm Service Agency in the development and technical servicing of certain programs, such as the Agricultural Conservation Program and other such similar conservation programs;

(2) To the Rural Housing Service in connection with their loan and land disposition programs.

(ii) Soil Surveys, including:

(A) Providing leadership for the Federal part of the National Cooperative Soil Survey which includes conducting and publishing soil surveys;

(B) Conducting soil surveys for resource planning and development; and

(C) Performing the cartographic services essential to carrying out the functions of the Natural Resources Conservation Service, including furnishing photographs, mosaics, and maps.

(iii) Conducting and coordinating snow surveys and making water supply forecasts pursuant to Reorganization Plan No. IV of 1940 (5 U.S.C. App.);

(iv) Operating plant materials centers for the assembly and testing of plant species in conservation programs, including the use, administration, and disposition of lands under the administration of the Natural Resources Conservation Service for such purposes under title III of the Bankhead-Jones Farm Tenant Act (7 U.S.C. 1010-1011); and

(v) Providing leadership in the inventorying and monitoring of soil, water, land, and related resources of the Nation.

(4) Administer the Watershed Protection and Flood Prevention Programs, including:

(i) The eleven authorized watershed projects authorized under 33 U.S.C. 702b-1, except for responsibilities assigned to the Forest Service;

(ii) The emergency flood control work under 33 U.S.C. 701b-1, except for responsibilities assigned to the Forest Service;

(iii) The Cooperative River Basin Surveys and Investigations Programs under 16 U.S.C. 1006, except for responsibilities assigned to the Forest Service;

(iv) The pilot watershed projects under 16 U.S.C. 590a-f, and 16 U.S.C. 1001-1009, except for responsibilities assigned to the Forest Service;

(v) The Watershed Protection and Flood Prevention Program under 16 U.S.C. 1001-1010, including rehabilitation of water resource structural measures constructed under certain Department of Agriculture programs under 16 U.S.C. 1012, except for responsibilities assigned to the Rural Housing Service and the Forest Service.

(vi) The joint investigations and surveys with the Department of the Army under 16 U.S.C. 1009; and

(vii) The Emergency Conservation Program and the Emergency Watershed Protection Program under sections 401-405 of the Agricultural Credit Act of 1978, 16 U.S.C. 2201-2205, except for the provisions of sections 401 and 402, 16 U.S.C. 2201-2202, as administered by the Farm Service Agency.

(5) Administer the Great Plains Conservation Program and the Critical Lands Resources Conservation Program under 16 U.S.C. 590p(b).

(6) Administer the Resource Conservation and Development Program under 16 U.S.C. 590a-f; 7 U.S.C. 1010-1011; and 16 U.S.C. 3451-3461, except for responsibilities assigned to the Rural Utilities Service.

(7) Responsibility for entering into long-term contracts for carrying out conservation and environmental measures in watershed areas.

(8) Provide national leadership for and administer the Soil and Water Resources Conservation Act of 1977 (16 U.S.C. 2001 et seq.), except for responsibilities assigned to other USDA agencies.

(9) Administer Rural Clean Water Program and other responsibilities assigned under section 35 of the Clean Water Act of 1977 (33 U.S.C. 1251 et seq.).

(10) Monitor actions and progress of USDA in complying with Executive Order 11988, Flood Plain Management, 3 CFR, 1977 Comp., p. 117, and Executive Order 11990, Protection of Wetlands, 3 CFR, 1977 Comp., p. 121, regarding management of floodplains and protection of wetlands; monitor USDA efforts on protection of important agricultural, forest and rangelands; and provide staff assistance to the USDA Natural Resources and Environment Committee.

(11) Administer the search and rescue operations authorized under 7 U.S.C. 2273.

(12) Administer section 202(c) of the Colorado River Basin Salinity Control Act, 43 U.S.C. 1592(c) including:

(i) Identify salt source areas and determine the salt load resulting from irrigation and watershed management practices;

(ii) Conduct salinity control studies of irrigated salt source areas;

(iii) Provide technical and financial assistance in the implementation of salinity control projects including the development of salinity control plans, technical services for application, and certification of practice applications;

(iv) Develop plans for implementing measures that will reduce the salt load of the Colorado River;

(v) Develop and implement long-term monitoring and evaluation plans to measure and report progress and accomplishments in achieving program objectives; and

(vi) Enter into and administer contracts with program participants and waive cost-sharing requirements when such cost-sharing requirements would result in a failure to proceed with needed on-farm measures.

(13) Administer natural resources conservation authorities, including authorities related to programs of the Commodity Credit Corporation that provide assistance with respect to natural resources conservation, under Title XII of the Food Security Act of 1985 (the Act), as amended (16 U.S.C. 3801 et seq.), including the following:

(i) Technical assistance related to the conservation of highly erodible lands and wetlands pursuant to sections 1211-1223 of the Act (16 U.S.C. 3811-3823);

(ii) Technical assistance related to the Conservation Reserve Program authorized by sections 1231-1235A of the Act (16 U.S.C. 3831-3835a);

(iii) The Wetlands Reserve Program and the Emergency Wetlands Reserve Program authorized by sections 1237-1237F of the Act (16 U.S.C. 3837-3837f) and the Emergency Supplemental Appropriations for Relief from the Major, Widespread Flooding in the Midwest Act, Public Law 103-75;

(iv) The Conservation Security Program authorized by sections 1238-1238C (16 U.S.C. 3838-3838c) and the Conservation Stewardship Program authorized by sections 1238D-1238G (16 U.S.C. 3838d-3838g).

(v) The Farmland Protection Program authorized by sections 1238H-1238I of the Act (16 U.S.C. 3838h-3838i);

(vi) The Farm Viability Program authorized by section 1238J of the Act (16 U.S.C. 3838j);

(vii) The Environmental Easement Program authorized by sections 1239-1239D of the Act (16 U.S.C. 3839-3839d);

(viii) The Environmental Quality Incentives Program authorized by sections 1240-1240I of the Act (16 U.S.C. 3839aa-3839aa-9);

(ix) The conservation of private grazing lands authorized by section 1240M of the Act (16 U.S.C. 3839bb);

(x) The Wildlife Habitat Incentives Program authorized by section 1240N of the Act (16 U.S.C. 3839bb-1);

(xi) The program for soil erosion and sedimentation control in the Great Lakes basin authorized by section 1240P of the Act (16 U.S.C. 3839bb-3);

(xii) The delivery of technical assistance under section 1242 of the Act (16 U.S.C. 3842), including the approval of persons or entities outside of USDA to provide technical services;

(xiii) The authority for partnerships and cooperation provided by section 1243 of the Act (16 U.S.C. 3843); and

(xiv) The incentives for certain farmers and ranchers and Indian tribes and the protection of certain proprietary information related to natural resources conservation programs as provided by section 1244 of the Act (16 U.S.C. 3844), except for responsibilities assigned to the Administrator, Farm Service Agency.

(xv) The Agriculture Conservation Experienced Services Program authorized by section 1252 of the Act (16 U.S.C. 3851).

(xvi) The authority under sections 1261-1262 of the Act (16 U.S.C. 3861-3862) to establish and utilize State Technical Committees.

(xvii) Those portions of the Grassland Reserve Program under sections 1238N-1238Q of the Act (16 U.S.C. 3838n-3838q) that are or become the responsibility of the Under Secretary for Farm Production and Conservation.

(xviii) The authority in section 1241 of the Act (16 U.S.C. 3841) to accept and use voluntary contributions of non-Federal funds in support of natural resources conservation programs under subtitle D of title XII of the Act with respect to authorities delegated to the Chief, Natural Resources Conservation Service.

(xix) The Agricultural Conservation Easement Program authorized by sections 1265-1265D of the Act (16 U.S.C. 3865-3865d).

(xx) The Regional Conservation Partnership Program authorized by sections 1271-1271F (16 U.S.C. 3871-3871f).

(xxi) The Voluntary Public Access and Habitat Incentive Program authorized by section 1240R of the Act (16 U.S.C. 3839bb-5).

(xxii) A wetlands mitigation banking program authorized by section 1222(k) of the Act (16 U.S.C. 3822(k)).

(14) Approve and transmit to the Congress comprehensive river basin reports.

(15) Provide representation on the Water Resources Council and river basin commissions created by 42 U.S.C. 1962, and on river basin interagency committees.

(16) [Reserved]

(17) Administer the Water Bank Program under the Water Bank Act (16 U.S.C. 1301 et seq.).

(18) Administer the agricultural management assistance provisions of section 524(b) of the Federal Crop Insurance Act, as amended (7 U.S.C. 1524(b)), except for responsibilities assigned to the Administrator, Risk Management Agency, and to the Administrator, Farm Service Agency.

(19) Administer the Healthy Forests Reserve Program authorized by sections 501-508, Title V of the Healthy Forests Restoration Act of 2003 (16 U.S.C. 6571-6578).

(20) Coordinate USDA input and assistance to the Department of Commerce and other Federal agencies consistent with section 307 of the Coastal Zone Management Act of 1972 (16 U.S.C. 1456), and coordinate USDA review of qualifying state and local government coastal management plans or programs prepared under such Act and submitted to the Secretary of Commerce, consistent with section 306(a) and (c) of such Act (16 U.S.C. 1455(a) and (c)).

(21) Administer responsibilities and functions assigned under the Defense Production Act of 1950, as amended (50 U.S.C. App. 2061 et seq.), and title VI of the Robert T. Stafford Disaster Relief and Emergency Assistance Act (42 U.S.C. 5195 et seq.), relating to agricultural lands and water.

(22) Administer the Abandoned Mine Reclamation Program for Rural Lands and other responsibilities assigned under the Surface Mining Control and Reclamation Act of 1977 (30 U.S.C. 1201 et seq.), except for responsibilities assigned to the Forest Service.

(23) With respect to land and facilities under his or her authority, to exercise the functions delegated to the Secretary by Executive Order 12580, 3 CFR, 1987 Comp., p. 193, under the following provisions of the Comprehensive Environmental Response, Compensation, and Liability Act of 1980 (“the Act”), as amended:

(i) Sections 104(a), (b), and (c)(4) of the Act (42 U.S.C. 9604(a), (b), and (c)(4)), with respect to removal and remedial actions in the event of release or threatened release of a hazardous substance, pollutant, or contaminant into the environment;

(ii) Sections 104(e)-(h) of the Act (42 U.S.C. 9604 (e)-(h)), with respect to information gathering and access requests and orders; compliance with Federal health and safety standards and wage and labor standards applicable to covered work; and emergency procurement powers;

(iii) Section 104(i)(11) of the Act (42 U.S.C. 9604(i)(11)), with respect to the reduction of exposure to significant risk to human health;

(iv) Section 104(j) of the Act (42 U.S.C. 9604(j)), with respect to the acquisition of real property and interests in real property required to conduct a remedial action;

(v) The first two sentences of section 105(d) of the Act (42 U.S.C. 9605(d)), with respect to petitions for preliminary assessment of a release or threatened release;

(vi) Section 105(f) of the Act (42 U.S.C. 9605(f)), with respect to consideration of the availability of qualified minority firms in awarding contracts, but excluding that portion of section 105(f) of the Act pertaining to the annual report to Congress;

(vii) Section 109 of the Act (42 U.S.C. 9609), with respect to the assessment of civil penalties for violations of section 122 of the Act (42 U.S.C. 9622) and the granting of awards to individuals providing information;

(viii) Section 111(f) of the Act (42 U.S.C. 9611(f)), with respect to the designation of officials who may obligate money in the Hazardous Substances Superfund;

(ix) Section 113(k) of the Act (42 U.S.C. 9613(k)), with respect to establishing an administrative record upon which to base the selection of a response action and identifying and notifying potentially responsible parties;

(x) Section 116(a) of the Act (42 U.S.C. 9616(a)), with respect to preliminary assessment and site inspection of facilities;

(xi) Section 117(a) and (c) of the Act (42 U.S.C. 9617(a) and (c)), with respect to public participation in the preparation of any plan for remedial action and explanation of variances from the final remedial action plan for any remedial action or enforcement action, including any settlement or consent decree entered into;

(xii) Section 119 of the Act (42 U.S.C. 9619), with respect to indemnifying response action contractors;

(xiii) Section 121 of the Act (42 U.S.C. 9621), with respect to cleanup standards; and

(xiv) Section 122 of the Act (42 U.S.C. 9622), with respect to settlement, but excluding section 122(b)(1) of the Act (42 U.S.C. 9633(b)(1)), related to mixed funding agreements.

(24) With respect to facilities and activities under his or her authority, to exercise the authority of the Secretary of Agriculture pursuant to section 1-102 related to compliance with applicable pollution control standards and section 1-601 of Executive Order 12088, 3 CFR, 1978 Comp., p. 243, to enter into an inter-agency agreement with the United States Environmental Protection Agency, or an administrative consent order or a consent judgment in an appropriate United States District Court with an appropriate State, interstate, or local agency, containing a plan and schedule to achieve and maintain compliance with applicable pollution control standards established pursuant to the following:

(i) Solid Waste Disposal Act, as amended by the Resource Conservation and Recovery Act, the Hazardous and Solid Waste Amendments, and the Federal Facility Compliance Act (42 U.S.C. 6901 et seq.);

(ii) Federal Water Pollution Prevention and Control Act, as amended (33 U.S.C. 1251 et seq.);

(iii) Safe Drinking Water Act, as amended (42 U.S.C. 300f et seq.);

(iv) Clean Air Act, as amended (42 U.S.C. 7401 et seq.);

(v) Noise Control Act of 1972, as amended (42 U.S.C. 4901 et seq.);

(vi) Toxic Substances Control Act, as amended, (15 U.S.C. 2601 et seq.);

(vii) Federal Insecticide, Fungicide, and Rodenticide Act, as amended (7 U.S.C. 136 et seq.); and

(viii) Comprehensive Environmental Response, Compensation, and Liability Act of 1980, as amended by the Superfund Amendments and Reauthorization Act of 1986 (42 U.S.C. 9601 et seq.).

(25) Administer the following provisions of the Farm Security and Rural Investment Act of 2002 with respect to functions otherwise delegated to the Chief, Natural Resources Conservation Service:

(i) The equitable relief provisions of section 1613 (7 U.S.C. 7996); and

(ii) The tracking of benefits under section 1614 (7 U.S.C. 7997).

(26) Implement the information disclosure authorities of section 1619(b)(3)(A) of the Food, Conservation, and Energy Act of 2008 (7 U.S.C. 8791(b)(3)(A)).

(27) In coordination with the Director, Office of Advocacy and Outreach, issue receipts under section 2501A(e) of the Food, Agriculture, Conservation, and Trade Act of 1990 (7 U.S.C. 2279-1(e)).

(28) Authorize employees of the Natural Resources Conservation Service to carry and use firearms for personal protection while conducting field work in remote locations in the performance of their official duties (7 U.S.C. 2274a).

(29) Conduct activities that assist the Director, Office of Environmental Markets, in developing guidelines regarding the development of environmental services markets.

(30) Administer the Terminal Lakes assistance program authorized by section 2507 of the Farm Security and Rural Investment Act of 2002 (16 U.S.C. 3839bb-6).

(b) Reservations. The following authorities are reserved to the Under Secretary for Farm Production and Conservation:

(1) Executing cooperative agreements and memoranda of understanding for multi-agency cooperation with conservation districts and other districts organized for soil and water conservation within States, territories, possessions, and American Indian Nations.

(2) Approving additions to authorized Resource Conservation and Development Projects that designate new project areas in which resource conservation and development program assistance will be provided, and withdrawing authorization for assistance, pursuant to 16 U.S.C. 590a-f; 7 U.S.C. 1010-1011; 16 U.S.C. 3451-3461.

(3) Giving final approval to and transmitting to the Congress watershed work plans that require congressional approval.

§ 2.44 [Amended]

15. Amend § 2.44 in paragraph (a) introductory text by removing the words “Under Secretary for Farm and Foreign Agricultural Services” and adding in their place the words “Under Secretary for Farm Production and Conservation”.

Subpart G—Delegations of Authority by the Assistant to the Secretary for Rural Development

16. The heading for subpart G is revised to read as set forth above.

§ 2.45 [Removed and Reserved]

17. Remove and reserve § 2.45.

18. Amend § 2.47 by adding paragraph (a)(19) to read as follows:

§ 2.47 Administrator, Rural Utilities Service.

(a) * * *

(19) Administer the authority under Sec. 746 of Division A of the Consolidated Appropriations Act, 2018 (Pub. L. 115-141), and any successor provisions in subsequent appropriations acts, to issue waivers to the U.S. iron and steel requirements for the construction, alteration, maintenance, or repair of a public water or wastewater system.

* * * * *

Subpart J—Delegations of Authority by the Under Secretary for Natural Resources and Environment

§ 2.61 [Removed and Reserved]

19. Remove and reserve § 2.61.

Subpart N—Delegations of Authority by the Under Secretary for Marketing and Regulatory Programs

§ 2.79 [Amended]

20. Amend § 2.79 by removing and reserving paragraph (a)(8)(lxiv).

21. Add Subpart U, consisting of §§ 2.600 through 2.602, to read as follows:

Subpart U—Delegations of Authority by the Under Secretary for Trade and Foreign Agricultural Affairs

Sec.
2.600 Deputy Under Secretary for Trade and Foreign Agricultural Affairs.
2.601 Administrator, Foreign Agricultural Service.
2.602 Manager, U.S. Codex Office.

§ 2.600 Deputy Under Secretary for Trade and Foreign Agricultural Affairs.

Pursuant to § 2.26(a), subject to reservations in § 2.26(b), and subject to policy guidance and direction by the Under Secretary, the following delegation of authority is made to the Deputy Under Secretary for Trade and Foreign Agricultural Affairs, if appointed, to be exercised only during the absence or unavailability of the Under Secretary: Perform all the duties and exercise all the powers which are now or which may hereafter be delegated to the Under Secretary for Trade and Foreign Agricultural Affairs: Provided, that this authority shall be exercised by the respective Deputy Under Secretary in the order in which he or she has taken office as a Deputy Under Secretary.

§ 2.601 Administrator, Foreign Agricultural Service.

(a) Delegations. Pursuant to § 2.26(a)(1) and (3), subject to reservations in § 2.26(b), the following delegations of authority are made by the Under Secretary for Trade and Foreign Agricultural Affairs to the Administrator, Foreign Agricultural Service:

(1) Coordinate the carrying out by Department agencies of their functions involving foreign agriculture policies and programs and their operations and activities in foreign areas. Act as liaison on these matters and functions relating to foreign agriculture between the Department of Agriculture and the Department of State, the United States Trade Representative, the Trade Policy Committee, the Agency for International Development and other departments, agencies and committees of the U.S. Government, foreign governments, the Organization for Economic Cooperation and Development, the European Union, the Food and Agriculture Organization of the United Nations, the International Bank for Reconstruction and Development, the Inter-American Development Bank, the Organization of American States, and other public and private United States and international organizations, and the contracting parties to the World Trade Organization (WTO).

(2) Conduct functions of the Department relating to WTO, the Trade Expansion Act of 1962 (19 U.S.C. 1801 et seq.), the Trade Act of 1974 (19 U.S.C. 2101 et seq.), the Trade Agreements Act of 1979 (19 U.S.C. 2501 et seq.), the Omnibus Trade and Competition Act of 1988 (19 U.S.C. 2901 et seq.), the provisions of subtitle B of title III of the North American Free Trade Agreement Implementation Act (except the provisions concerning the end-use certificate system authorized pursuant to section 321(f) of that Act (19 U.S.C. 3391(f)) delegated to the Administrator, Farm Service Agency), and other legislation affecting international agricultural trade including the programs designed to reduce foreign tariffs and other trade barriers.

(3) Conduct studies of worldwide production, trade, marketing, prices, consumption, and other factors affecting exports and imports of U.S. agricultural commodities; obtain information on methods used by other countries to move farm commodities in world trade on a competitive basis for use in the development of programs of this Department; provide information to domestic producers, the agricultural trade, the public and other interests; and promote normal commercial markets abroad. This delegation excludes basic and long-range analyses of world conditions and developments affecting supply, demand, and trade in farm products and general economic analyses of the international financial and monetary aspects of agricultural affairs as assigned to the Under Secretary for Research, Education, and Economics.

(4) Administer Departmental programs concerned with development of foreign markets for agricultural products of the United States except functions relating to export marketing operations under section 32, of the Act of August 23, 1935, as amended (7 U.S.C. 612c), delegated to the Under Secretary for Marketing and Regulatory Programs, and utilization research delegated to the Under Secretary for Research, Education, and Economics.

(5) Exercise the Department's functions with respect to the International Coffee Agreement or any such future agreement.

(6) Administer functions of the Department relating to import controls including, among others, functions under section 22 of the Agricultural Adjustment Act of 1933, as amended (7 U.S.C. 624), the Harmonized Tariff Schedule of the United States (19 U.S.C. 1202), and section 204 of the Agricultural Act of 1956, as amended (7 U.S.C. 1854) but not including those functions reserved to the Secretary under § 2.16(b)(2) and those relating to section 8e of the Agricultural Adjustment Act of 1933, as amended (7 U.S.C. 608e-1), as assigned to the Under Secretary for Marketing and Regulatory Programs.

(7) Conduct Department activities to carry out the provisions of the Export Administration Act of 1979, as amended (50 U.S.C. Chapter 56).

(8) Exercise the Department's responsibilities in connection with international negotiations of the Grains Trade Convention and in the administration of such Convention.

(9) Administer responsibilities and functions assigned under the Defense Production Act of 1950, as amended (50 U.S.C. App. 2061 et seq.), and title VI of the Robert T. Stafford Disaster Relief and Emergency Assistance Act (42 U.S.C. 5195 et seq.), concerning foreign agricultural intelligence and other foreign agricultural matters.

(10) Conduct economic analyses pertaining to the foreign sugar situation.

(11) Exercise the Department's functions with respect to the International Sugar Agreement or any such future agreements.

(12) Exercise the Department's responsibilities with respect to tariff-rate quotes for dairy products under chapter 4 of the Harmonized Tariff Schedule of the United States (19 U.S.C. 1202).

(13) Serve as a focal point for handling quality or weight discrepancy inquiries from foreign buyers of U.S. agricultural commodities to insure that they are investigated and receive a timely response and that reports thereof are made to appropriate parties and government officials in order that corrective action may be taken.

(14) Formulate policies and administer programs and activities authorized by the Agricultural Trade Act of 1978, as amended (7 U.S.C. 5601 et seq.).

(15) Formulate policies and administer barter programs under which agricultural commodities are exported.

(16) Perform functions of the Department in connection with the development and implementation of agreements to finance the sale and exportation of agricultural commodities on long-term credit or for foreign currencies under the Food for Peace Act (7 U.S.C. 1691, 1701 et seq.).

(17) Coordinate within the Department activities arising under the Food for Peace Act (except as delegated to the Under Secretary for Research, Education, and Economics in § 2.21(a)(8)), and represent the Department in its relationships in such matters with the Department of State, any interagency committee on the Food for Peace Act, and other departments, agencies, and committees of the Government.

(18)-(19) [Reserved]

(20) Carry out activities relating to the sale, reduction, or cancellation of debt, as authorized by title VI of the Agricultural Trade and Development Act of 1954, as amended (7 U.S.C. 1738 et seq.).

(21) [Reserved]

(22) Allocate the agricultural commodities acquired under price support programs that have been determined by the FSA Administrator to be available for export among the various export programs.

(23) Maintain a worldwide agricultural intelligence and reporting system, including provision for foreign agricultural representation abroad to protect and promote U.S. agricultural interests and to acquire information on demand, competition, marketing, and distribution of U.S. agricultural commodities abroad pursuant to title VI of the Agricultural Act of 1954, as amended (7 U.S.C. 1761-1768).

(24) Plan and carry out programs and activities under the foreign market promotion authority of: The Wheat Research and Promotion Act (7 U.S.C. 1292 note); the Cotton Research and Promotion Act (7 U.S.C. 2101-2118); the Potato Research and Promotion Act (7 U.S.C. 2611-2627); the Egg Research and Consumer Information Act of 1974 (7 U.S.C. 2701-2718); the Beef Research and Information Act, as amended (7 U.S.C. 2901-2911); the Wheat and Wheat Foods Research and Nutrition Education Act (7 U.S.C. 3401-3417); the Floral Research and Consumer Information Act of 1981 (7 U.S.C. 4301-4319); subtitle B of title I of the Dairy and Tobacco Adjustment Act of 1983 (7 U.S.C. 4501-4514); the Honey Research, Promotion, and Consumer Information Act of 1984, as amended (7 U.S.C. 4601-4613); the Pork Promotion, Research, and Consumer Information Act of 1985 (7 U.S.C. 4801-4819); the Watermelon Research and Promotion Act, as amended (7 U.S.C. 4901-4916); the Pecan Promotion and Research Act of 1990 (7 U.S.C. 6001-6013); the Mushroom Promotion, Research, and Consumer Information Act of 1990 (7 U.S.C. 6101-6112); the Lime Research, Promotion, and Consumer Information Act of 1990 (7 U.S.C. 6201-6212); the Soybean Promotion, Research, and Consumer Information Act of 1990 (7 U.S.C. 6301-6311); the Fluid Milk Promotion Act of 1990 (7 U.S.C. 6401-6417); the Fresh Cut Flowers and Fresh Cut Greens Promotion and Consumer Information Act (7 U.S.C. 6801-6814); the Sheep Promotion, Research, and Information Act of 1994 (7 U.S.C. 7101-7111); the Commodity Promotion, Research, and Information Act of 1996 (7 U.S.C. 7411-7425); the Canola and Rapeseed Research, Promotion, and Consumer Information Act (7 U.S.C. 7441-7452); the National Kiwifruit Research, Promotion, and Consumer Information Act (7 U.S.C. 7461-7473); and, the Popcorn Promotion, Research, and Consumer Information Act (7 U.S.C. 7481-7491). This authority includes determining the programs and activities to be undertaken and assuring that they are coordinated with the overall departmental programs to develop foreign markets for U.S. agricultural products.

(25) Establish and administer regulations relating to foreign travel by employees of the Department. Regulations will include, but not be limited to, obtaining and controlling passports, obtaining visas, coordinating Department of State medical clearances and imposing requirements for itineraries and contacting the Foreign Agricultural Affairs Officers upon arrival in the Officers' country(ies) of responsibility.

(26) Administer the Foreign Service personnel system for the Department in accordance with 22 U.S.C. 3922, except as otherwise delegated in § 2.80(a)(1), but including authority to represent the Department of Agriculture in all interagency consultations and negotiations with the other foreign affairs agencies with respect to joint regulations and authority to approve joint regulations issued by the Department of State relating to the administration of the Foreign Service.

(27) Establish and maintain U.S. Agricultural Trade Offices to develop, maintain and expand international markets for U.S. agricultural commodities in accordance with title IV of Public Law No. 95-501 (7 U.S.C. 1765a-g).

(28) Administer the programs under section 416(b) of the Agricultural Act of 1949, as amended (7 U.S.C. 1431(b)), relating to the foreign donation of CCC stocks of agricultural commodities, except as otherwise delegated in § 2.42(a)(43).

(29)-(30) [Reserved]

(31) Administer programs under the Food for Progress Act of 1985 (7 U.S.C. 1736o), except as otherwise delegated in § 2.42(a)(43).

(32) Serve as Department adviser on policies, organizational arrangements, budgets, and actions to accomplish international scientific and technical cooperation in food and agriculture.

(33) Administer and direct the Department's programs in international development, technical assistance, and training carried out under the Foreign Assistance Act, as amended, as requested under such act (22 U.S.C. 2151 et seq.).

(34) Administer and coordinate assigned Departmental programs in international research and scientific and technical cooperation with other governmental agencies, land grant universities, international organizations, international agricultural research centers, and other organizations, institutions, or individuals (7 U.S.C. 1624, 3291).

(35) Direct and coordinate the Department's participation in scientific and technical matters and exchange agreements between the United States and other countries.

(36) Direct and coordinate the Department's work with international organizations and interagency committees concerned with food and agricultural development programs (7 U.S.C. 2201 and 2202).

(37) Coordinate policy formulation for USDA international science and technology programs concerning international agricultural research centers, international organizations, and international agricultural research and extension activities (7 U.S.C. 3291).

(38) Disseminate, upon request, information on subjects connected with agriculture which has been acquired by USDA agencies that may be useful to the U.S. private sector in expanding foreign markets and investment opportunities through the operation of a Department information center, pursuant to 7 U.S.C. 2201.

(39) Enter into contracts, grants, cooperative agreements, and cost reimbursable agreements relating to agricultural research, extension, or teaching activities (7 U.S.C. 3318, 3319a).

(40) Determine amounts reimbursable for indirect costs under international agricultural programs and agreements (7 U.S.C. 3319).

(41) Administer the Cochran Fellowship Program (7 U.S.C. 3293).

(42) Determine quantity trigger levels and impose additional duties under the special safeguard measures in accordance with U.S. note 2 to subchapter IV of chapter 99 of the Harmonized Tariff Schedule of the United States (19 U.S.C. 1202).

(43) Implement provisions of the Trade Act of 1974 regarding adjustment assistance for farmers. (19 U.S.C. 2401-2401g).

(44) Implement section 3107 of the Farm Security and Rural Investment Act of 2002 (7 U.S.C. 1736o-1).

(45) Support remote sensing activities of the Department and research with satellite imagery including:

(i) Providing liaison with U.S. space programs;

(ii) Providing administrative management of the USDA Remote Sensing Archive and the transfer of satellite imagery to all USDA agencies;

(iii) Coordinating all agency satellite imagery data needs; and

(iv) Arranging for acquisition, and preparation of imagery for use to the extent of existing capabilities.

(46) [Reserved]

(47) Implement section 3206 of the Food, Conservation, and Energy Act of 2008 (7 U.S.C. 1726c) regarding local and regional food aid procurement projects.

(48) Administer the Borlaug International Agricultural Science and Technology Fellowship Program (7 U.S.C. 3319j).

(49) [Reserved]

(50) Administer the following provisions of the Agricultural Act of 2014, Public Law 113-79:

(i) Section 12314 relating to the Pima Agriculture Cotton Trust Fund (7 U.S.C. 2101 note), in coordination with the Administrator, Farm Service Agency.

(ii) Section 12315 relating to the Agriculture Wool Apparel Manufacturers Trust Fund (7 U.S.C. 7101 note), in coordination with the Administrator, Farm Service Agency.

(b) [Reserved]

§ 2.602 Manager, U.S. Codex Office.

(a) Delegations. Pursuant to § 2.26(a)(5), subject to reservations in § 2.26(b), the following delegations of authority are made by the Under Secretary for Trade and Foreign Agricultural Affairs.

(i) Inform the public of the sanitary and phytosanitary standard-setting activities of the Codex Alimentarius Commission (19 U.S.C. 2578; Pres. Proc. 6780).

(ii) Enter into agreements with organizations, institutions or individuals throughout the world to conduct activities related to the sanitary and phytosanitary standard-setting activities of the Codex Alimentarius Commission, including international outreach and education, in order to promote and support the development of a viable and sustainable global agricultural system; antihunger and improved international nutrition efforts; and increased quantity, quality, and availability of food (7 U.S.C. 3291).

(iii) Coordinate with institutions and other persons throughout the world performing agricultural and related research, extension, and teaching activities by exchanging research materials and results with such institutions or persons or by conducting with such institutions or persons joint or coordinated research, extension, or teaching activities that are related to the sanitary and phytosanitary standard-setting activities of the Codex Alimentarius Commission and that address problems of significance to food and agriculture in the United States (7 U.S.C. 3291).

(iv) Work with transitional and more advanced countries in food, agricultural, and related research, development, teaching, and extension activities related to the sanitary and phytosanitary standard-setting activities of the Codex Alimentarius Commission (7 U.S.C. 3291).

(v) Enter into contracts, grants, cooperative agreements, and cost reimbursable agreements to carry out the Department's agricultural research, extension, or teaching activities related to the sanitary and phytosanitary standard-setting activities of the Codex Alimentarius Commission (7 U.S.C. 3318, 3319a).

(vi) Determine amounts reimbursable for indirect costs under international agricultural programs and agreements (7 U.S.C. 3319).

(vii) Coordinate policy formulation for USDA international science and technology programs concerning the sanitary and phytosanitary standard-setting activities of the Codex Alimentarius Commission (7 U.S.C. 3291).

(b) [Reserved]

PART 1409—[REMOVED AND RESERVED]

22. Remove and reserve part 1409.

Dated: May 7, 2018.
Sonny Perdue,
Secretary of Agriculture.

[FR Doc. 2018-10133 Filed 5-11-18; 8:45 am]

BILLING CODE 3410-90-P